Title 3—

The President

Proclamation 7431 of April 30, 2001

Law Day, U.S.A., 2001

By the President of the United States of America

Proclamation

This year marks the 44th commemoration of May 1 as Law Day, U.S.A., a national day of observance to celebrate our legal heritage. On this occasion, we reflect on the role our legal system plays in the lives of every American and how the freedoms we enjoy would not be possible without a strong and independent judiciary. The theme of this year's Law Day, “Ensuring the Rights of Victims,” acknowledges our gratitude for a legal system that recognizes the importance of protecting the rights of those who are victimized by crime.

This Law Day, I call upon all Americans to consider how the law, communities, and individuals can better assist and support victims of crime. We must continue to strive for a legal system in which victims receive timely and accurate information regarding offenders and relevant public proceedings. In appropriate circumstances, a victim of crime should have an opportunity for restitution. In addition, social services provided to victims of crime can give the assistance and support that victims deserve in the aftermath of crime.

We are encouraged by the progress our country has made over the last three decades toward better assisting those whose lives are affected by criminal offenses. However, government and laws cannot effectively address this issue alone. More than 10,000 State- or community-based organizations provide help and hope to crime victims. I encourage Americans to celebrate, support, and consider joining these volunteers and other workers in service to their fellow citizens.

Keeping faith with our commitment to the victims of crime also drives us to increased efforts to prevent crimes and effectively punish those who commit them, to ensure that similar violations are discouraged and law-abiding citizens are protected.

Law Day provides an opportunity to express appreciation to professionals who accept the responsibility to serve justice. From attorneys to judges to the many other professionals working in our legal system, those who serve justice uphold the rule of law on which our democracy is built. They join with law enforcement professionals to give our people confidence to live without fear for their safety.

We must each do our part to build a Nation in which civility and respect for our neighbors overwhelm the powers of injustice. As Thomas Jefferson wrote, “It is reasonable that every one who asks justice should do justice.” I encourage all Americans to join with members of the legal community in protecting the rights of crime victims and in celebrating a legal system that, while not perfect, is the best the world has ever known.

NOW, THEREFORE, I, GEORGE W. BUSH, President of the United States of America, by virtue of the authority vested in me by the Constitution and laws of the United States, do hereby proclaim May 1, 2001, as Law Day, U.S.A. I call upon all the people of the United States to observe this day with appropriate ceremonies and activities. I also call upon Government officials to display the flag of the United States in support of this national observance.

IN WITNESS WHEREOF, I have hereunto set my hand this thirtieth day of April, in the year of our Lord two thousand one, and of the Independence of the United States of America the two hundred and twenty-fifth.

B

[FR Doc. 01-11359

Filed 5-2-01; 8:45 am]

Billing code 3195-01-P